DEPARTMENT OF THE INTERIOR

Bureau of Ocean Energy Management

[OMB Control Number 1010-0082]

Information Collection: Leasing of Minerals Other Than Oil, Gas, and Sulphur in the Outer Continental Shelf; Proposed Collection for OMB Review; Comment Request; MMAA104000

ACTION: 60-Day notice.

SUMMARY: To comply with the Paperwork Reduction Act of 1995 (PRA), the Bureau of Ocean Energy Management (BOEM) is inviting comments on a collection of information that we will submit to the Office of Management and Budget (OMB) for review and approval. The information collection request (ICR) concerns the paperwork requirements in the regulations under Leasing of Minerals Other than Oil, Gas, and Sulphur in the Outer Continental Shelf.

DATES: Submit written comments by June 13, 2017.

ADDRESSES: Please send your comments on this ICR to the BOEM Information Collection Clearance Officer, Anna Atkinson, Bureau of Ocean Energy Management, 45600 Woodland Road, Sterling, Virginia 20166 (mail); or anna.atkinson@boem.gov (email); or 703-787-1209 (fax). Please reference ICR 1010-0082 in your comment and include your name and return address.

FOR FURTHER INFORMATION CONTACT: Anna Atkinson, Office of Policy, Regulations, and Analysis at (703) 787-1025 to request a copy of the ICR.

SUPPLEMENTARY INFORMATION:

OMB Control Number: 1010-0082.

Title: 30 CFR part 581, Leasing of Minerals Other than Oil, Gas, and Sulphur in the Outer Continental Shelf.

Abstract: The Outer Continental Shelf (OCS) Lands Act (Act), as amended (43 U.S.C. 1334 and 43 U.S.C. 1337(k)), authorizes the Secretary of the Interior (Secretary) to administer the provisions relating to the leasing of the OCS, and to prescribe such rules and regulations as may be necessary to carry out such provisions. Additionally, the Act authorizes the Secretary to implement regulations to grant to qualified persons, offering the highest cash bonuses on the basis of competitive bidding, leases of any mineral other than oil, gas, and sulphur. This applies to any area of the OCS not then under lease for such mineral upon royalty, rental, and other terms and conditions that the Secretary may prescribe at the time of the lease offer. The Secretary is to administer the leasing provisions of the Act and prescribe the rules and regulations necessary to carry out those provisions.

Regulations at 30 CFR part 581 implement these statutory requirements. There has been no leasing activity in the OCS for minerals other than oil, gas, or sulphur under these regulations for many years, and so BOEM has not generally collected information under this Part of its regulations; however, because these are regulatory requirements, the potential exists for information to be collected. Therefore, we are renewing OMB approval for this information collection.

BOEM will use the information required by 30 CFR part 581 to determine if statutory requirements are met prior to the issuance of a lease. Specifically, BOEM will use the information to:

• Evaluate the area and minerals requested by the lessee to assess the viability of offering leases for sale;

• Request the state(s) to initiate the establishment of a joint group to assess the proposed action;

• Ensure excessive overriding royalty interests are not created that would put economic constraints on all parties involved;

• Document that a leasehold or geographical subdivision has been surrendered by the record title holder; and

• Determine if activities on the proposed lease area(s) will have a significant impact on the environment.

We protect proprietary information according to the Freedom of Information Act (5 U.S.C. 552) and the Department of the Interior's implementing regulations (43 CFR part 2), and 30 CFR 581.7. No items of a sensitive nature are collected. Responses are mandatory.

Frequency: On occasion.

Description of Respondents: As there are no active respondents, we estimate the potential annual number of respondents to be one. Potential respondents are OCS lease requestors, state governments, and OCS lessees.

Estimated Reporting and Recordkeeping Hour Burden: We expect the annual reporting burden for this renewal to be 984 hours, which reflects a decrease of 280 hour burdens.

The following table details the individual components and respective hour burden estimates of this ICR. We assumed that respondents perform certain requirements in the normal course of their activities. We consider these to be usual and customary and took that into account in estimating the burden.

In calculating burdens, responses to requests for information and interest or proposed notices of sale pursuant to 30 CFR 581.12 and 581.16 do not constitute information collection under 5 CFR 1320.3(h)(4). These inquiries are general solicitations of public comment, so BOEM has removed the burden hours associated with them reflecting a decrease of 280 hour burdens.

Burden Breakdown
Citation 30 CFR part 581 | Reporting and/or recordkeeping requirements * | Hour burden | Average number of annual reponses | Annual burden hours
| Non-hour cost burden(s) *
Subpart A—General
6 | Appeal decisions | Exempt under 5 CFR 1320.4(a)(2), (c). |  | 0
9 | Governor of affected States initiates negotiations on jurisdictional controversy, etc., and enters agreement with BOEM | 16 | 1 request | 16
Subtotal |  |  | 1 Response | 16
Subpart B—Leasing Procedures
11(a), (c) | Submit request for approval for mineral lease with required information | 60 | 1 request | 60
12; all sections | Submit response to Call for Information and Interest on areas for leasing of minerals (other than oil, gas, sulphur) in accordance with approved lease program, including information from States/local governments, industry, Federal agencies | Not considered IC as defined in 5 CFR 1320.3(h)(4). |  | 0
13; 16 | States or local governments establish task force; submit comments/recommendations on planning, coordination, consultation, and other issues that may contribute to the leasing process | 200 | 1 comment | 200
16; all sections | Submit suggestions and relevant information in response to request for comments on the proposed leasing notice, including information from States/local governments | Not considered IC as defined in 5 CFR 1320.3(h)(4). |  | 0
18; 20(e), (f); 26(a), (b) | Submit bids (oral or sealed) and required information | 250 | 1 response | 250
18(b)(3), (c); 20(e), (f) | Tie bids—submit oral bids for highest bidder | 20 | 1 response | 20
20(a), (b), (c); 41(a) | Establish a company file for qualification, submit updated information, submit qualifications for lessee/bidder and required information | 58 | 1 response | 58
21(a); 47(c) | Request for reconsideration of bid rejection/cancellation | Not considered IC per 5 CFR 1320.3(h)(9). |  | 0
21(b), (e); 23; 26(e), (i); 40(b) | Execute lease (includes submission of evidence of authorized agent and request for dating of leases); maintain auditable records re 30 CFR Chapter XII, Subchapter A—[burden under ONRR requirements] | 100 | 1 lease | 100
Subtotal |  |  | 8 Responses | 688
Subpart C—Financial Considerations
31(b); 41 | File application and required information for assignment or transfer for approval | 160 | 1 application | 160
32(b), (c) | File application for waiver, suspension, or reduction and required documentation | 80 | 1 application | 80
33; 41(c) | Submit surety or personal bond | Burden covered under 1010-0081. |  | 0
Subtotal |  |  | 2 Responses | 240
Subpart D—Assignments and Lease Extensions
41 | Transfer application filing fee | $50 required or non-required filing document fee × 1 = $50
Subpart E—Termination of Leases
46 | File written request for relinquishment | 40 | 1 Response | 40
Total Burden |  |  | 12 Responses | 984
|  |  | $50 Non-Hour Cost Burden
* In the future, BOEM may require electronic filing of certain submissions.

Estimated Reporting and Recordkeeping “Non-Hour Cost” Burden: We have identified one non-hour cost burden for this collection, a $50 required or non-required filing document fee under 30 CFR 581.41.

Public Disclosure Statement: The PRA (44 U.S.C. 3501, et seq.) provides that an agency may not conduct or sponsor a collection of information unless it displays a currently valid OMB control number.

Comments: Before submitting an ICR to OMB, PRA section 3506(c)(2)(A) requires each agency “. . . to provide notice . . . and otherwise consult with members of the public and affected agencies concerning each proposed collection of information . . .”. Agencies must specifically solicit comments on: (a) Whether or not the collection of information is necessary, including whether or not the information will have practical utility; (b) the accuracy of the burden estimates; (c) ways to enhance the quality, utility, and clarity of the information to be collected; and (d) ways to minimize the burden on respondents.

Agencies must also estimate the non-hour cost burdens to respondents or recordkeepers resulting from the collection of information. Therefore, if you have costs to generate, maintain, and disclose this information, you should comment and provide your total capital and startup costs or annual operation, maintenance, and purchase of service costs. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (a) Before October 1, 1995; (b) to comply with requirements not associated with the information collection; (c) for reasons other than to provide information or keep records for the Government; or (d) as part of customary and usual business or private practices.

We will summarize written responses to this notice and address them in our submission for OMB approval. As a result of your comments, we will make any necessary adjustments to the burden in our submission to OMB.

Public Availability of Comments: Our practice is to make comments, including names, phone numbers, email addresses, and home addresses of respondents, available for public review. Individual respondents may request that we withhold such information, which we will honor to the extent allowable by law. If you wish us to withhold this information, you must state this prominently at the beginning of your comment. However, we will make all submissions from organizations or businesses, and from individuals identifying themselves as representatives or officials of organizations or businesses, available for public inspection in their entirety.

The authorities for this action are the OCS Lands Act, as amended (43 U.S.C. 1334 and 43 U.S.C. 1337(k)), and the Paperwork Reduction Act of 1995 (44 U.S.C 3501 et seq.).

Dated: April 10, 2017.
Deanna Meyer-Pietruszka,
Chief, Office of Policy, Regulations, and Analysis.

[FR Doc. 2017-07586 Filed 4-13-17; 8:45 am]

BILLING CODE 4310-MR-P